ENVIRONMENTAL PROTECTION AGENCY

40 CFR Part 52

[TN-146-9934b; TN-156-9935b; FRL-6520-1]

Approval and Promulgation of Air Quality Implementation Plans; Tennessee; Adoption of Rule Governing Any Credible Evidence

AGENCY: Environmental Protection Agency (EPA).

ACTION: Proposed rule.

SUMMARY: On November 16, 1994, the Tennessee Department of Environment and Conservation submitted to EPA revisions to the Nashville-Davidson County Local Implementation Plan (LIP). These revisions consisted of the adoption of section 10.56.290 Measurement and Reporting of Emissions amendments in the Metropolitan/Nashville Code of Laws.

On May 3, 1995, the Tennessee Department of Environment and Conservation submitted to EPA revisions to the Tennessee State Implementation Plan (SIP). These revisions consisted of the adoption of Rule 1200-3-10-.04 Sampling, Recording and Reporting Required For Major Stationary Sources.

The adoptions of section 10.56.290 into the Nashville-Davidson County LIP and Rule 1200-3-10-.04 into the Tennessee SIP are being implemented to meet the requirements of credible evidence. These requirements were set forth in the May 23, 1994 SIP call letter. In the final rules section of this Federal Register, the EPA is approving the revision as a direct final rule without prior proposal because the EPA views this as a noncontroversial revision amendment and anticipates no adverse comments. A detailed rationale for the approval is set forth in the direct final rule. If no adverse comments are received in response to that direct final rule, no further activity is contemplated in relation to this proposed rule. If EPA receives adverse comments, the direct final rule will be withdrawn and all public comments will be addressed in a subsequent final rule based on this proposed rule. The EPA will not institute a second comment period on this document. Any parties interested in commenting should do so at this time.

DATES: To be considered, comments must be received by February 18, 2000.

ADDRESSES: Written comments on this action should be addressed to Randy Terry at the Environmental Protection Agency, Region 4 Air Planning Branch, 61 Forsyth Street, SW, Atlanta, Georgia 30303.

Copies of documents relative to this action are available for public inspection during normal business hours at the following locations. The interested persons wanting to examine these documents should make an appointment with the appropriate office at least 24 hours before the visiting day and reference files TN-156-9934 and TN 146-9935. The Region 4 office may have additional background documents not available at the other locations.

Air and Radiation Docket and Information Center (Air Docket 6102), U.S. Environmental Protection Agency, 401 M Street, SW, Washington, DC 20460.

Environmental Protection Agency, Region 4 Air Planning Branch, 61 Forsyth Street, SW, Atlanta, Georgia 30303.

Department of Environment and Conservation, 9th Floor L & C Annex, 401 Church St, Nashville, TN 37243-1531

Office of the Federal Register, 800 North Capitol Street, NW, Suite 700, Washington, DC.

FOR FURTHER INFORMATION CONTACT: Randy Terry, Regulatory Planning Section, Air Planning Branch, Air, Pesticides & Toxics Management Division, Region 4 Environmental Protection Agency, 61 Forsyth Street SW, Atlanta, Georgia 30303. The telephone number is (404) 562-9032.

SUPPLEMENTARY INFORMATION: For additional information see the direct final rule which is published in the rules section of this Federal Register.

Dated: August 26, 1999.
A. Stanley Meiburg,
Acting Regional Administrator, Region 4.

[FR Doc. 00-963 Filed 1-18-00; 8:45 am]

BILLING CODE 6560-50-P